DEPARTMENT OF LABOR

Employment and Training Administration

[TA-W-63,990]

Whirlpool Corporation, Oxford Division Including On-Site Leased Workers from Vend-A-Snack Inc., Willstaff, Inc., Cobra Security Inc., Tri-Star Companies Inc., Cross Gate Services Inc., and Impact Business Group, Oxford, MS; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on October 1, 2008, applicable to workers of Whirlpool Corporation, Oxford Division, Oxford, Mississippi, including on-site leased workers from Vend-A-Snack, Willstaff, Cobra Security, Tri-Star Companies, Inc., and Cross Gate Services, Inc. The notice was published in the Federal Register on October 20, 2008 (73 FR 62322).

At the request of a company official, the Department reviewed the certification for workers of the subject firm. The workers are engaged in the production of cooking products (household ovens, stove tops, and microwaves).

New information shows that workers leased from iMPact Business Group were employed on-site at the Oxford, Mississippi location of Whirlpool Corporation, Oxford Division. The Department has determined that these workers were sufficiently under the control of the subject firm to be considered leased workers.

Based on these findings, the Department is amending this certification to include workers leased from iMPact Business Group working on-site at the Oxford, Mississippi location of the subject firm.

The intent of the Department's certification is to include all workers employed at Whirlpool Corporation, Oxford Division, Oxford, Mississippi who were adversely affected by a shift in production of cooking products to Mexico.

The amended notice applicable to TA-W-63,990 is hereby issued as follows:

All workers of Whirlpool Corporation, Oxford Division, Oxford, Mississippi, including on-site leased workers from Vend-A-Snack, Willstaff, Cobra Security, Tri-Star Companies, Inc., Cross Gate Services, Inc., and iMPact Business Group, who became totally or partially separated from employment on or after September 4, 2007 through October 1, 2010, are eligible to apply for adjustment assistance under Section 223 of the Trade Act of 1974, and are also eligible to apply for alternative trade adjustment assistance under Section 246 of the Trade Act of 1974.

Signed at Washington, DC, this 8th day of April 2009.
Linda G. Poole,
Certifying Officer, Division of Trade Adjustment Assistance.

[FR Doc. E9-8695 Filed 4-15-09; 8:45 am]

BILLING CODE 4510-FN-P